DEPARTMENT OF JUSTICE

Notice of Lodging of Proposed Settlement Agreement Under the Resource, Conservation and Recovery Act

On March 26, 2018, the Department of Justice lodged a proposed Settlement Agreement with the United States Bankruptcy Court for the District of Iowa in the case entitled In re Wellman Dynamics Corporation, Case No. 16-01825-als11 (Bankr. S.D. Iowa), DOJ #90-10-07797/2.

The United States, on behalf of the Environmental Protection Agency (“EPA”), filed a proof of claim on January 17, 2017, in this bankruptcy action, which asserts that Wellman Dynamics Corporation (“WDC”) is liable to the United States to comply with by the Resource, Conservation and Recovery Act (“RCRA”), 42 U.S.C. 6901 et seq., applicable regulations, and to perform an Administrative Order on Consent (“AOC”), Docket No. RCRA-07-2003-0167, which requires the Debtor to conduct an RCRA facility investigation and to complete a corrective measures study related to the Wellman Facility, located in Creston, Iowa. Under the Settlement Agreement, WDC Acquisition LLC has agreed to be responsible for fulfilling all obligations mandated by RCRA, the regulations, and for performing the AOC, as well as to perform various environmental obligations under the jurisdiction of the Iowa Department of Natural Resources and Iowa Department of Public Health at the Wellman facility in according with the schedule set forth in the Settlement Agreement. The United States also agrees to withdraw as moot the protective proof of claim filed by the EPA.

The publication of this notice opens a period for public comment on the proposed Settlement Agreement. Comments should be addressed to the Assistant Attorney General, Environment and Natural Resources Division, and should refer to In re Wellman Dynamics Corporation, Case No. 16-01825-als-11 (Bankr. S.D. Iowa). All comments must be submitted no later than fifteen (15) days after the publication date of this notice. Comments may be submitted either by email or by mail:

To submit comments: | Send them to:
By email | pubcomment-ees.enrd@usdoj.gov.
By mail | Assistant Attorney General, U.S. DOJ-ENRD, P.O. Box 7611, Washington, DC 20044-7611.

Under Section 7003(d) of RCRA, a commenter may request an opportunity for a public meeting in the affected area.

During the public comment period, the proposed Settlement Agreement may be examined and downloaded at this Justice Department website: http://www.usdoj.gov/enrd/Consent_Decrees.html. We will provide a paper copy of the proposed consent decree upon written request and payment of reproduction costs. Please mail your request and payment to:

Consent Decree Library, U.S. DOJ-ENRD, P.O. Box 7611, Washington, DC 20044-7611.

Please enclose a check or money order for $10.50 (25 cents per page reproduction cost) payable to the United States Treasury.

Thomas P. Carroll,
Assistant Section Chief, Environmental Enforcement Section, Environment and Natural Resources Division.

[FR Doc. 2018-06456 Filed 3-29-18; 8:45 am]

BILLING CODE 4410-15-P